DEPARTMENT OF TRANSPORTATION

Federal Aviation Administration

Public Notice for Waiver of Aeronautical Land-Use Assurance, Grosse Ile Municipal Airport, Grosse Ile, MI

AGENCY: Federal Aviation Administration, DOT.

ACTION: Notice of intent of waiver with respect to land.

SUMMARY: The Federal Aviation Administration (FAA) is considering a proposal to change a portion of the airport land from aeronautical use to non-aeronautical use. The proposal consists of two parcels of land; one 1.412 acre parcel designated as building Parcel and one parcel designated as Grazing Parcel, together totaling approximately 7.539 acres. Current use and present condition is vacant grassland. There are no impacts to the airport by allowing the airport to lease the property. The land was acquired as part of transferred surplus property formerly known as the Naval Air Station, Grosse Ile; Quitclaim Deed dated December 3, 1970. Approval does not constitute a commitment by the FAA to financially assist in the lease of the subject airport property nor a determination that all measures covered by the program are eligible for Airport Improvement Program funding from the FAA. The disposition of proceeds from the lease of the airport property will be in accordance with the FAA Policy and Procedures Concerning the Use of Airport Revenue, published in the Federal Register on February 16, 1999. This proposal is for approximately 7.539 acres in total.

In accordance with section 47107(h) of title 49, United States Code, this notice is required to be published in the Federal Register 30 days before modifying the land-use assurance that requires the property to be used for an aeronautical purpose. The proposed land will be leased (Building Parcel) to allow for the construction of a 5,000 square foot barn facility solely for the purpose of breeding and raising of alpacas and related purposes and to (Grazing Parcel) allowing for the grazing of alpacas. The proposed land is South of Groh Road and West of East River Road. The proposed building and other structures will not exceed Part 77 standards. The proposed property location does not impact current safety areas or future airport development. The proceeds from the lease of land will be used for airport improvements and operation expenses at Grosse Ile Municipal Airport.

DATES: Comments must be received on or before September 7, 2001.

FOR FURTHER INFORMATION CONTACT: Mr. Gary Migut, Federal Aviation Administration, Great Lakes Region, Detroit Airports District Office, DET ADO-650.2, Willow Run Airport, East, 8820 Beck Road, Belleville, Michigan 48111, (734) 487-7278. Documents reflecting this FAA action may be reviewed at this same location or at Grosse Ile Municipal Airport, Grosse Ile, Michigan.

SUPPLEMENTARY INFORMATION: Following are legal descriptions of the property:

Building Parcel. Commencing at a monument in a monument box at the intersection of the North line of Private Claim 554 and the centerline of East River Road, thence Due West along the said North Line 1234.34 feet and Due South 75.00 feet to the Point of Beginning, proceeding thence Due East 240.62 feet, thence Due South 255.62 feet, thence Due West 240.62 feet, thence Due North 255.62 feet to the Point of Beginning, containing 1.412 acres.

Grazing Parcel. Commencing at a monument in a monument box at the intersection of the North line of Private Claim 554 and the centerline of East River Road, thence Due West along said North Line 1234.34 feet and Due South 330.62 feet to the Point of Beginning, proceeding thence Due East 240.62 feet, thence Due North 255.62 feet, thence Due East 290.00 feet, thence South 24 Degrees 37 Minutes 36 Seconds West 530.03 feet, thence South 16 Degrees 51 Minutes 00 Seconds West 223.39 feet, thence Due West 180.00 feet, thence South 56 Degrees 36 Minutes 05 Seconds West 218.00 feet, thence Due West 178.00 feet, thence North 28 Degrees 04 Minutes 21 Seconds East 340.00 feet, thence North 59 Degrees 58 Minutes 54 Seconds East 155.91 feet, thence Due North 182.00 feet to the Point of Beginning, containing 6.127 acres.

Issued in Belleville, Michigan, May 15, 2001.
Irene R. Porter,
Manager, Detroit Airports District Office, Great Lakes Region.

[FR Doc. 01-19366 Filed 8-7-01; 8:45 am]

BILLING CODE 4910-13-M